DEPARTMENT OF TRANSPORTATION

Federal Aviation Administration

14 CFR Part 39

[Docket No. FAA-2018-0298; Product Identifier 2017-NM-179-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318 and A319 series airplanes; Model A320-211, A320-212, A320-214, A320-216, A320-231, A320-232, and A320-233 airplanes; and Model A321-111, A321-112, A321-131, A321-211, A321-212, A321-213, A321-231, and A321-232 airplanes. This proposed AD was prompted by reports of missing assembly hardware on the trimmable horizontal stabilizer actuator (THSA). This proposed AD would require repetitive inspections and checks of the lower and upper THSA attachments and applicable related investigative and corrective actions; a one-time inspection of the THSA lower attachment and replacement as applicable; and, for certain airplanes, activation of the electrical load sensing device (ELSD) and concurrent modifications. We are proposing this AD to address the unsafe condition on these products.

DATES: We must receive comments on this proposed AD by May 31, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Airbus service information identified in this NPRM, contact Airbus, Airworthiness Office—EIAS, 1 Rond Point Maurice Bellonte, 31707 Blagnac Cedex, France; telephone +33 5 61 93 36 96; fax +33 5 61 93 44 51; email account.airworth-eas@airbus.com; internet http://www.airbus.com.

For United Technologies Corporation Aerospace Systems (UTAS) service information identified in this AD, contact United Technologies Corporation Aerospace Systems (UTAS): Goodrich Corporation, Actuation Systems, Stafford Road, Fordhouses, Wolverhampton WV10 7EH, England; phone: +44 (0) 1902 624938; fax: +44 (0) 1902 788100; email: techpubs.wolverhampton@goodrich.com; internet: http://www.goodrich.com/TechPubs.

You may view this service information at the FAA, Transport Standards Branch, 2200 South 216th Street, Des Moines, WA. For information on the availability of this material at the FAA, call 206-231-3195.

Examining the AD Docket

You may examine the AD docket on the internet at http://www.regulations.gov by searching for and locating Docket No. FAA-2018-0298; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th Street, Des Moines, WA 98198; phone and fax: 206-231-3223.

SUPPLEMENTARY INFORMATION:

Comments Invited

We invite you to send any written relevant data, views, or arguments about this proposal. Send your comments to an address listed under the ADDRESSES section. Include “Docket No. FAA-2018-0298; Product Identifier 2017-NM-179-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA Airworthiness Directive 2017-0237, dated December 4, 2017 (referred to after this as the Mandatory Continuing Airworthiness Information, or “the MCAI”), to correct an unsafe condition for all Airbus Model A318 and A319 series airplanes; Model A320-211, A320-212, A320-214, A320-216, A320-231, A320-232, A320-233 airplanes; and Model A321-111, A321-112, A321-131, A321-211, A321-212, A321-213, A321-231, and A321-232 airplanes. The MCAI states:

The Trimmable Horizontal Stabilizer Actuator (THSA) of Airbus A320 Family aeroplanes has been rig-tested to check secondary load path behaviour in case of primary load path failure. In that configuration, the loads are transferred to the secondary load path, which should jam, preventing any Trimmable Horizontal Stabilizer motion. The test results showed that the secondary load path did not jam as expected, preventing detection of the primary load path failure. To verify the integrity of the THSA primary load path and the correct installation of the THSA, Airbus issued Service Bulletin (SB) A320-27-1164, later revised multiple times, and SB A320-27A1179, and EASA issued AD 2006-0223 [which corresponds to FAA AD 2007-06-02, Amendment 39-14983 (72 FR 12072, March 15, 2007) (“AD 2007-06-02”)], AD 2007-0178 [which corresponds to FAA AD 2008-09-16, Amendment 39-15497 (73 FR 24160, May 2, 2008)(“AD 2008-09-16”)], AD 2008-0150, and AD 2014-0147, each AD superseding the previous one, requiring one-time and repetitive inspections.

Since EASA AD 2014-0147 was issued, Airbus designed a new device, called Electrical Load Sensing Device (ELSD), to introduce a new mean of THSA upper secondary load path engagement detection. Consequently, Airbus issued several SBs (Airbus SB A320-27-1245, A320-27-1246, and A320-27-1247, depending on aeroplane configuration) providing instructions to install the wiring provision for ELSD installation and to install ELSD on the THSA, and SB A320-27-1248, providing instructions to activate the ELSD. Airbus also revised SB A320-27-1164, now at Revision 13, including instructions applicable for aircraft equipped with ELSD.

Furthermore, following a visual inspection of the THSA, an operator reported that the THSA was found with a bush missing, inducing torqueing of the THSA lower attachment primary bolt against the THSA lug, which resulted in the application of a transverse force on the lug.

Prompted by several other identical findings, Airbus released Alert Operator Transmission (AOT) A27N010-17 to provide instructions for inspection and associated corrective actions.

For the reasons described above, this AD retains the requirements of EASA AD 2014-0147, which is superseded, and requires installation of ELSD on the THSA, ELSD activation, and a one-time inspection to verify the bush presence on the THSA lower attachment.

The unsafe condition is uncontrolled movement of the horizontal stabilizer as a result of the latent (undetected) failure of the THSA's primary load path and consequent loss of control of the airplane.

The required actions include repetitive inspections and checks of the lower and upper THSA attachments and applicable related investigative and corrective actions; a one-time inspection of the THSA lower attachment and replacement as applicable; and, for certain airplanes, activation of the ELSD and concurrent modifications.

Related investigative actions include an inspection of the upper THSA attachment, an inspection of the lower attachment, and a check of the upper and lower clearance between the secondary nut trunnion and the junction plate. Corrective actions include replacement of the THSA and repair.

You may examine the MCAI in the AD docket on the internet at http://www.regulations.gov by searching for and locating Docket No. FAA-2018-0298.

Relationship Between Proposed AD and AD 2007-06-02 and AD 2008-09-16

Accomplishment of the certain proposed actions would terminate all requirements of AD 2007-06-02 and AD 2008-09-16.

Related Service Information Under 1 CFR Part 51

Airbus has issued Alert Operators Transmission (AOT) A27N010-17, Revision 01, dated October 17, 2017, including AOT Appendix_A27N010-17. This service information describes the procedure for a one-time general visual inspection of the THSA lower attachment to measure the gap between the THSA lower attachment tab washer and attachment plates and replacement of the THSA lower attachment if the measured gap is less than 0.5 mm. The replacement includes doing an inspection of the THSA parts to confirm the bushing is missing and applicable corrective actions (i.e., repair).

Airbus has issued Service Bulletin A320-27-1164, Revision 13, dated August 8, 2016. This service information describes procedures for a general visual inspection of the upper THSA attachments for correct installation, cracks, damage and metallic particles; a general visual inspection of the upper attachment for correct installation; a check of the clearance between secondary nut trunnions and junction plates and correct installation of the lower THSA attachment; a general visual inspection of the THSA ball screw to check for the absence of dents; and applicable related investigative and corrective actions.

Airbus has issued Service Bulletin A320-27-1245, Revision 00, dated March 6, 2017. This service information describes the procedure to modify the wiring provisions for the ELSD.

Airbus has issued Service Bulletin A320-27-1246, Revision 01, dated November 4, 2016. This service information describes the procedures to adapt the wiring provision of the ELSD and THSA to accommodate the correct installation of the ELSD.

Airbus has issued Service Bulletin A320-27-1247, Revision 00, dated March 6, 2017. This service information describes the procedure to modify the upper attachment secondary load path of the THSA to accommodate the correct installation of the ELSD.

Airbus has issued Service Bulletin A320-27-1248, Revision 00, dated March 6, 2017. This service information describes the procedure to activate the ELSD.

UTAS has issued United Technologies Corporation (UTC) Aerospace Systems Repair Instructions RF-DSC-1361-17, Version 00, including Appendix A, dated May 24, 2017. This service information describes repair instructions to follow if the bushing is missing as specified in AOT A27N010-17, Revision 01, dated October 17, 2017.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 1,180 airplanes of U.S. registry.

We estimate the following costs to comply with this proposed AD:

Estimated Costs
Action | Labor cost | Parts cost | Cost per product | Cost on U.S. operators
Inspections, Check, Activation, and Modifications | Up to 59 work-hours x $85 per hour = $5,015 | Up to $15,353 | Up to $20,368 | Up to $24,034,240.

We estimate the following costs to do any necessary replacements that would be required based on the results of the proposed inspections. We have no way of determining the number of aircraft that might need this replacement:

On-Condition Costs
Action | Labor cost | Parts cost | Cost per product
Replacement | 11 work-hours × $85 per hour = $935 | $240,000 | $240,935

We have received no definitive data that would enable us to provide cost estimates for the on-condition repairs specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this NPRM is 2120-0056. The paperwork cost associated with this NPRM has been detailed in the Costs of Compliance section of this document and includes time for reviewing instructions, as well as completing and reviewing the collection of information. Therefore, all reporting associated with this NPRM is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2018-0298; Product Identifier 2017-NM-179-AD.

(a) Comments Due Date

We must receive comments by May 31, 2018.

(b) Affected ADs

This AD affects AD 2007-06-02, Amendment 39-14983 (72 FR 12072, March 15, 2007) (“AD 2007-06-02”) and AD 2008-09-16, Amendment 39-15497 (73 FR 24160, May 2, 2008) (“AD 2008-09-16”).

(c) Applicability

This AD applies to Airbus Model A318-111, A318-112, A318-121, and A318-122 airplanes; Model A319-111, A319-112, A319-113, A319-114, A319-115, A319-131, A319-132, and A319-133 airplanes; Model A320-211, A320-212, A320-214, A320-216, A320-231, A320-232, and A320-233 airplanes; and Model A321-111, A321-112, A321-131, A321-211, A321-212, A321-213, A321-231, and A321-232 airplanes; certificated in any category, all manufacturer serial numbers.

(d) Subject

Air Transport Association (ATA) of America Code 27, Flight controls.

(e) Reason

This AD was prompted by reports of missing assembly hardware on the trimmable horizontal stabilizer actuator (THSA). We are issuing this AD to address uncontrolled movement of the horizontal stabilizer as a result of the latent (undetected) failure of the THSA's primary load path and consequent loss of control of the airplane.

(f) Compliance

Comply with this AD within the compliance times specified, unless already done.

(g) Repetitive Actions: Lower THSA Attachment

Before exceeding 20 months since airplane first flight, or since airplane first flight following last THSA replacement, or within 20 months after the last inspection of the lower THSA attachment as specified in the instructions of Airbus Service Bulletin A320-27-1164, Revision 02 up to Revision 09, whichever occurs latest, do the actions specified in paragraphs (g)(1), (g)(2), and (g)(3) of this AD concurrently, in accordance with the Accomplishment Instructions of Airbus Service Bulletin A320-27-1164, Revision 13, dated August 8, 2016, Repeat the actions thereafter at intervals not to exceed 20 months.

(1) Check the clearance between the secondary nut trunnions and the junction plates at the lower THSA attachment.

(2) Do a general visual inspection of the lower THSA attachment for correct installation of attachment parts.

(3) Do a general visual inspection of the ball screw for dents.

(h) Repetitive Inspections: Upper THSA Attachment

Before exceeding 10 months since airplane first flight, or since airplane first flight following last THSA replacement, or within 10 months after the last inspection of the upper THSA attachment as specified in the instructions of Airbus Service Bulletin A320-27-1164, Revision 02 up to Revision 09, whichever occurs latest, do the actions specified in paragraphs (h)(1) and (h)(2) of this AD concurrently, in accordance with the Accomplishment Instructions of Airbus Service Bulletin A320-27-1164, Revision 13, dated August 8, 2016. Repeat the inspections thereafter at intervals not to exceed 10 months.

(1) Do a general visual inspection of the upper THSA attachment for correct installation, cracks, damage, and metallic particles.

(2) Do a general visual inspection of the upper attachment for correct installation of attachment parts.

(i) Related Investigative and Corrective Actions

If, during any action required by paragraph (g) or (h) of this AD, any discrepancy is detected (e.g., any installation deviation, cracking, damage, metallic particle, or dent is found), before further flight, accomplish all applicable related investigative and corrective actions in accordance with the Accomplishment Instructions of Airbus Service Bulletin A320-27-1164, Revision 13, dated August 8, 2016; except as required by paragraph (o)(1) of this AD.

(j) Reporting Requirements for Actions Required by Paragraphs (g) and (h) of This AD

In case of any findings during any action required by paragraph (g) or (h) of this AD, report the inspection results to Airbus using the applicable “Inspection Reporting Sheet” of Airbus Service Bulletin A320-27-1164, Revision 13, dated August 8, 2016, at the applicable time specified in paragraph (j)(1) or (j)(2) of this AD. If operators have reported findings as part of obtaining any corrective actions approved by the EASA Design Organization Approval (DOA), operators are not required to report those findings as specified in this paragraph.

(1) If the inspection or check was done on or after the effective date of this AD: Submit the report within 30 days after the inspection.

(2) If the inspection or check was done before the effective date of this AD: Submit the report within 30 days after the effective date of this AD.

(k) One-Time Inspection and Replacement

For airplanes on which the THSA has been replaced or reinstalled since the date of issuance of the original certificate of airworthiness or the date of issuance of the original export certificate of airworthiness: Within 6 months after the effective date of this AD, accomplish a detailed inspection of the THSA lower attachment gap clearances, in accordance with the instructions of Airbus Alert Operators Transmission (AOT) A27N010-17, Revision 01, dated October 17, 2017, including AOT Appendix_A27N010-17. If the measured gap is less than 0.5 mm, before further flight, replace the THSA, including doing an inspection of the THSA parts to confirm the bushing is missing and applicable corrective actions, in accordance with the instructions of Airbus AOT A27N010-17, Revision 01, dated October 17, 2017, including AOT Appendix_A27N010-17; and United Technologies Corporation (UTC) Aerospace Systems Repair Instructions RF-DSC-1361-17, Version 00, including Appendix A, dated May 24, 2017, as applicable, except as required by paragraph (o)(2) of this AD.

(l) Definition of Groups

For the purpose of this AD: Group 1 airplanes are those that, on the effective date of this AD, do not have the electrical load sensing device (ELSD) activated. Group 2 airplanes are those that, on the effective date of this AD, have the ELSD activated.

(m) Activation and Concurrent Modification

For Group 1 airplanes (see paragraph (l) of this AD): Do the actions specified in paragraphs (m)(1) and (m)(2) of this AD.

(1) Within 4 years after the effective date of this AD, activate the ELSD of the THSA on the airplane, in accordance with the Accomplishment Instructions of Airbus Service Bulletin A320-27-1248, Revision 00, dated March 6, 2017.

(2) Concurrently with or before the activation of the ELSD required by paragraph (m)(1) of this AD, modify the airplane, in accordance with the Accomplishment Instructions of Airbus Service Bulletin A320-27-1245, Revision 00, dated March 6, 2017; or Airbus Service Bulletin A320-27-1246, Revision 01, dated November 4, 2016; as applicable.

(n) Concurrent Requirement for Airplanes Equipped With THSAs That Do Not Have ELSDs

For an airplane equipped with a THSA having a part number listed in Figure 1 to paragraphs (n), (p), and (q) of this AD: Concurrently with or before the activation required by paragraph (m)(1) of this AD, modify the airplane, in accordance with the Accomplishment Instructions of Airbus Service Bulletin A320-27-1247, Revision 00, dated March 6, 2017.

(o) Exceptions to Service Information

(1) Where Airbus Service Bulletin A320-27-1164, Revision 13, dated August 8, 2016, specifies to contact Airbus for appropriate action, and specifies that action as “RC” (Required for Compliance): Before further flight, accomplish corrective actions in accordance with the procedures specified in paragraph (v)(2) of this AD.

(2) Where Airbus AOT A27N010-17, Revision 01, dated October 17, 2017, specifies to contact Airbus for appropriate action: Before further flight, accomplish corrective actions in accordance with the procedures specified in paragraph (v)(2) of this AD.

(p) Parts Installation

Do not install on any airplane a THSA with a part number listed in Figure 1 to paragraphs (n), (p), and (q) of this AD and do not deactivate the ELSD at the times specified in paragraph (p)(1) or (p)(2) of this AD, as applicable.

(1) Group 1 airplanes (see paragraph (l) of this AD): After modification of the airplane as required by paragraph (m)(1) of this AD.

(2) Group 2 airplanes (see paragraph (l) of this AD): From the effective date of this AD.

(q) Method of Compliance

An airplane on which Airbus modification 155955 has been embodied in production is considered compliant with paragraphs (m)(1), (m)(2), and (n) of this AD, provided that it is determined that no THSA with a part number listed in Figure 1 to paragraphs (n), (p), and (q) of this AD is installed on that airplane, and that the ELSD remains activated. A review of airplane maintenance records is acceptable to make this determination, provided those records can be relied upon for that purpose.

(r) Airplanes Not Affected by the Requirements of Paragraph (k) of This AD

The inspection required by paragraph (k) of this AD is not required for airplanes on which the THSA has been installed as specified in the instructions of Airbus A320 Airplane Maintenance Manual (AMM) 27-44-51-400-001, dated May 2017, or subsequent.

(s) Credit for Previous Actions

(1) This paragraph provides credit for initial actions required by paragraphs (g), (h), (i), and (j) of this AD, if those actions were performed before the effective date of this AD using the Airbus Service Bulletin A320-27-1164, Revision 10, dated March 2017, 2014; Revision 11, dated December 15, 2014; or Revision 12, dated March 23, 2016.

(2) This paragraph provides credit for actions required by paragraph (k) of this AD, if those actions were performed before the effective date of this AD using Airbus AOT A27N010-17, dated March 27, 2017.

(3) This paragraph provides credit for actions required by paragraph (m)(2) of this AD, if those actions were performed before the effective date of this AD using Airbus Service Bulletin A320-27-1246, dated March 20, 2015.

(t) No Terminating Action for Repetitive Inspections in This AD

Accomplishment on an airplane of the one-time inspection and replacement, as applicable, specified in paragraph (k) of this AD and the modifications specified in paragraphs (m)(1), (m)(2), and (n) of this AD, as applicable, do not constitute terminating action for the repetitive inspections required by paragraphs (g) and (h) of this AD for that airplane.

(u) Terminating Action for Other FAA ADs

Accomplishing the initial actions required by paragraphs (g) and (h) of this AD, and accomplishing the applicable actions required by paragraphs (i) and (j) of this AD, terminates all requirements of AD 2007-06-02 and AD 2008-09-16.

(v) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (x)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA DOA. If approved by the DOA, the approval must include the DOA-authorized signature.

(3) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(4) Required for Compliance (RC): Except as specified in paragraph in (o)(1) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(w) Special Flight Permits

Special flight permits, as described in Section 21.197 and Section 21.199 of the Federal Aviation Regulations (14 CFR 21.197 and 21.199), are not allowed.

(x) Related Information

(1) Refer to Mandatory Continuing Airworthiness Information (MCAI) EASA Airworthiness Directive 2017-0237, dated December 4, 2017, for related information. This MCAI may be found in the AD docket on the internet at http://www.regulations.gov by searching for and locating Docket No. FAA-2018-0298.

(2) For more information about this AD, contact Sanjay Ralhan, Aerospace Engineer, International Section, Transport Standards Branch, FAA, 2200 South 216th Street, Des Moines, WA 98198; phone and fax: 206-231-3223.

(3) For Airbus service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com.

(4) For UTAS service information identified in this AD, contact United Technologies Corporation Aerospace Systems (UTAS): Goodrich Corporation, Actuation Systems, Stafford Road, Fordhouses, Wolverhampton WV10 7EH, England; phone: +44 (0) 1902 624938; fax: +44 (0) 1902 788100; email: techpubs.wolverhampton@goodrich.com; internet: http://www.goodrich.com/TechPubs.

(5) You may view this service information at the FAA, Transport Standards Branch, 2200 South 216th Street, Des Moines, WA. For information on the availability of this material at the FAA, call 206-231-3195.

Issued in Des Moines, Washington, on March 30, 2018.
Chris Spangenberg,
Acting Director, System Oversight Division, Aircraft Certification Service.

[FR Doc. 2018-07656 Filed 4-13-18; 8:45 am]

BILLING CODE 4910-13-P